DEPARTMENT OF THE INTERIOR

Bureau of Land Management

[CA-110]

Meeting of the Central California Resource Advisory Council

ACTION: Notice of public meeting.

SUMMARY: In accordance with the Federal Land Policy and Management Act (FLPMA) and the Federal Advisory Committee Act of 1972 (FACA), the U.S. Department of the Interior, Bureau of Land Management (BLM) Central California Resource Advisory Council will meet as indicated below.

DATES: The meeting will be held Friday and Saturday, April 20 and 21, 2007, in the University of California Lindcove Research and Extension Center meeting room, 22963 Carson Ave., Exeter, California. On April 20, the members will convene at 8 a.m. for a business meeting, followed by a field trip to Atwell Island beginning at noon. Members of the public are welcome to attend the tour and meeting. Field tour participants must provide their own transportation and lunch. The Advisory Council will resume its meeting at 8 a.m. on April 21 in the Lindcove Research and Extension Center meeting room. Time for public comment is reserved from 9:30 a.m. to 11:30 a.m. on April 21.

FOR FURTHER INFORMATION CONTACT: BLM Bakersfield Field Office Acting Manager Patty Gradek, (661) 391-6006; or BLM Central California Public Affairs Officer David Christy, (916) 985-4474.

SUPPLEMENTARY INFORMATION: The twelve-member Central California Resource Advisory Council advises the Secretary of the Interior, through the Bureau of Land Management, on a variety of public land issues associated with public land management in the Central California. At this meeting, agenda items include discussion of the Caliente Resource Management Plan update by the Bakersfield Field Office and preparation of an Environmental Impact Statement for the Carrizo Plain National Monument. The RAC members will also hear status reports from managers for the Folsom, Hollister, Bakersfield and Bishop field offices. The meeting is open to the public. The public may present written comments to the Council, and time will be allocated for hearing public comments. Depending on the number of persons wishing to comment and the time available, the time for individual oral comments may be limited. Individuals who plan to attend and need special assistance such as sign language interpretation or other reasonable accommodations should contact the BLM as indicated above.

Dated: March 6, 2007.
David Christy,
Public Affairs Officer.

[FR Doc. 07-1233 Filed 3-15-07; 8:45 am]

BILLING CODE 4310-40-M